NATIONAL AERONAUTICS AND SPACE ADMINISTRATION

[Notice 03-031]

NASA Advisory Council, Minority Business Resource Advisory Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Minority Business Resource Advisory Committee.

DATES: Thursday, April 3, 2003, 9 a.m. to 4 p.m., and Friday, April 4, 2003, 9 a.m. to 12 Noon.

ADDRESSES: NASA John C. Stennis Space Center, Mississippi. Building 1100, Room 135, Stennis Space Center, MS 39529.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

—Review of Previous Meeting,

—Office of Small and Disadvantaged Business Utilization Update of Activities,

—NAC Meeting Report,

—Overview of NASA Stennis Space Center,

—Overview of Small Business Program,

—Public Comment,

—Propulsion Directorate Update,

—IFMP Overview,

—Earth Science Applications Update,

—Committee Panel Reports,

—Status of Open Committee Recommendations,

—New Business.

Visitors will be requested to sign a visitor's register. Attendees should report to Building 1100, Stennis Space Center, where they will be asked to comply with NASA security requirements, including the presentation of a valid picture ID, before receiving an access badge. Foreign nationals attending this meeting will be required to provide the following information: full name; gender; date/place of birth; citizenship; visa/greencard information (number, country, expiration date); employer/affiliation information (name of institution, address, country, phone); title/position of attendee. To expedite admittance, attendees can provide identifying information in advance by contacting NASA Stennis Space Center Security Office via email at SSC.Security.Office@ssc.nasa.gov or by telephone at (228) 688-3580. Visitors will not be permitted to drive on Stennis Space Center; however, NASA will provide attendees with transportation from the Casino Magic Tower Hotel, Bay St. Louis, MS. Visitors will be escorted at all times. The remote location of Stennis Space Center makes leaving the Center for lunch impractical, so visitors are encouraged to bring their lunch. It is imperative that the meeting be held on these dates to accommodate the scheduling priorities of the key participants.

June W. Edwards,
Advisory Committee Management Officer, National Aeronautics and Space Administration.

[FR Doc. 03-6351 Filed 3-17-03; 8:45 am]

BILLING CODE 7510-01-P